DEPARTMENT OF HEALTH AND HUMAN SERVICES

Health Resources and Services Administration

Organ Procurement and Transplantation Network

AGENCY: Health Resources and Services Administration, HHS.

ACTION: Correction and extension of deadline date.

SUMMARY: The Health Resources Services Administration (HRSA) published a notice in the Federal Register of March 3, 2008 (FR Doc. E8-3994), pages 11420-11421, requesting comments to assist in determining whether it should engage in rulemaking with respect to vascularized composite allografts, and also to announce a meeting for discussion and recommendations regarding that issue.

The notice is to extend HRSA's deadline for receiving written comments to July 2, 2008, and to change the zip code of the address where the meeting will be held.

Correction: In the Federal Register of March 3, 2008, in FR Doc. E8-3994, on page 11421, 1st column under the heading DATES:

1st line, change to read: Written comments must be received at HRSA by July 2, 2008.

10th line, change to read: The meeting will be held on Friday, April 4, 2008, from 10 a.m. to 4 p.m., at the Parklawn Building, 5600 Fishers Lane, Rockville, MD 20857.

Dated: April 1, 2008.
Alexandra Huttinger,
Director, Division of Policy Review and Coordination.

[FR Doc. E8-7174 Filed 4-4-08; 8:45 am]

BILLING CODE 4165-15-P